FEDERAL ELECTION COMMISSION

Sunshine Act Meeting

Date & Time: Thursday, March 14, 2002 at 10 a.m.

Place: 999 E Street, NW., Washington, DC (Ninth Floor).

Status: This meeting will be open to the public.

The following item has been added to the agenda: Topics for Administrative Fines Rulemaking.

PERSON TO CONTACT FOR INFORMATION: Mr. Ron Harris, Press Officer, Telephone: (202) 694-1220.

Mary W. Dove,
Secretary of the Commission.

[FR Doc. 02-5859 Filed 3-7-02; 11:51 am]

BILLING CODE 6715-01-M